DEPARTMENT OF HEALTH AND HUMAN SERVICES

National Institutes of Health

Center for Scientific Review; Amended Notice of Meeting

Notice is hereby given of a change in the meeting of the Center for Scientific Review Special Emphasis Panel, June 10, 2003, 12 p.m. to June 10, 2003, 2 p.m., National Institutes of Health, One Democracy Plaza, 6701 Democracy Boulevard, Bethesda, MD 20892 which was published in the Federal Register on May 27, 2003, 68 FR 28833-28834.

The meeting will be held at the National Institutes of Health, 6701 Rockledge Drive, Bethesda, MD 20882. The date and time remain the same. The meeting is closed to the public.

Dated: June 4, 2003.
LaVerne Y. Stringfield,
Director, Office of Federal Advisory Committee Policy.

[FR Doc. 03-14655 Filed 6-10-03; 8:45 am]

BILLING CODE 4140-01-M